DEPARTMENT OF ENERGY

Federal Energy Regulatory Commission

[Project No. 2800-054]

Essex Company, LLC, Lawrence Hydroelectric Project; Notice of Dispute Resolution Panel Meeting and Technical Conference

On June 18, 2024, Commission staff, in response to the filing of a notice of study dispute by the National Marine Fisheries Service on May 28, 2024, convened a single three-person Dispute Resolution Panel (Panel) pursuant to 18 CFR 5.14(d).

The Panel will hold a technical conference to address two study disputes regarding potential effects of the Lawrence Project (P-2800) on shortnose and Atlantic sturgeon and their habitat in the Merrimack River. The purpose of the technical session is for the disputing agency, applicant, and Commission staff to provide the Panel with additional information necessary to evaluate the disputed studies, and for the Panel to ask questions and seek clarification regarding the matters in dispute. All local, state, and federal agencies, Indian tribes, and other interested parties are invited to attend the meeting as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at its discretion, limit the speaking time for each participant.

The conference will be held virtually, using the Microsoft Teams platform, on Friday, June 28 from 1 p.m. to 4 p.m. If you plan to attend the conference, you must contact Allan Creamer, as directed below, by June 26, 2024 to receive specific instructions on how to attend.

For more information, please contact Allan Creamer, the Dispute Resolution Panel Chair, at allan.creamer@ferc.gov, or (202) 502-8365.

Dated: June 20, 2024.
Debbie-Anne A. Reese,
Acting Secretary.

[FR Doc. 2024-14048 Filed 6-26-24; 8:45 am]

BILLING CODE 6717-01-P